DEPARTMENT OF ENERGY

Federal Energy Regulatory Commission

[Docket No. RP03-29-001]

CenterPoint Energy Gas Transmission Company; Notice of Compliance Filing

November 22, 2002.

Take notice that on November 20, 2002, CenterPoint Energy Gas Transmission Company (CEGT) tendered for filing as part of its FERC Gas Tariff, Fifth Revised Volume No. 1, the following tariff sheets to be effective on November 17, 2002:

Second Revised Sheet No. 430

Original Sheet No. 430A

CEGT states that it also proposes to withdraw First Revised Sheet No. 461 filed in this docket on October 17, 2002. CEGT states that the purpose of this filing is to comply with the Commission's order issued November 14, 2002 in Docket No. RP03-29-000.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-30283 Filed 11-27-02; 8:45 am]

BILLING CODE 6717-01-P